DEPARTMENT OF THE INTERIOR

Bureau of Land Management

[MT-921-02-1320-EL-P; MTM 92145]

Invitation—Coal Exploration License Application, Big Horn Co., Montana

AGENCY: Bureau of Land Management, Montana State Office, Interior.

ACTION: Notice of invitation—coal exploration license application MTM 92145.

SUMMARY: Members of the public are hereby invited to participate with Spring Creek Coal Company in a program for the exploration of coal deposits owned by the United States of America in the following-described lands located in Big Horn County, Montana, encompassing 200.00 acres:

T. 8 S., R. 39 E., P. M. M.,

Sec. 14: NE¼NE¼, SW¼NE¼.

Sec. 21: N½SW¼, SE¼SW¼.

SUPPLEMENTARY INFORMATION: Any party electing to participate in this exploration program shall notify, in writing, both the State Director, Bureau of Land Management, PO Box 36800, Billings, Montana 59107-6800, and Spring Creek Coal Company, PO Box 67, Decker, Montana 59025. Such written notice must refer to serial number MTM 92145 and be received no later than 30 calendar days after publication of this Notice in the Federal Register or 10 calendar days after the last publication of this Notice in the Sheridan Press newspaper, whichever is later. This Notice will be published once a week for two (2) consecutive weeks in the Sheridan Press, Sheridan, Wyoming.

The proposed exploration program is fully described, and will be conducted pursuant to an exploration plan to be approved by the Bureau of Land Management. The exploration plan, as submitted by Spring Creek Coal Company, is available for public inspection at the Bureau of Land Management, 5001 Southgate Drive, Billings, Montana, during regular business hours (9 a.m. to 4 p.m.), Monday through Friday.

FOR FURTHER INFORMATION CONTACT: Robert Giovanini, Mining Engineer, at (406) 896-5084 or Connie Schaff, Land Law Examiner, at (406) 896-5060, Branch of Solid Minerals, Bureau of Land Management, Montana State Office, PO Box 36800, Billings, Montana 59107-6800.

Dated: September 23, 2002.
Randy D. Heuscher,
Chief, Branch of Solid Minerals.

[FR Doc. 02-28759 Filed 11-12-02; 8:45 am]

BILLING CODE 4310-$$-P